DEPARTMENT OF COMMERCE

International Trade Administration

[A-570-062]

Cast Iron Soil Pipe Fittings From the People's Republic of China: Initiation of Less-Than-Fair Value Investigation

AGENCY: Enforcement and Compliance, International Trade Administration, Department of Commerce.

DATES: Applicable August 2, 2017.

FOR FURTHER INFORMATION CONTACT: Sergio Balbontin at (202) 482-6478 or Denisa Ursu at (202) 482-2285, AD/CVD Operations, Enforcement & Compliance, U.S. Department of Commerce, 1401 Constitution Avenue NW., Washington, DC 20230.

SUPPLEMENTARY INFORMATION:

The Petition

On July 13, 2017, the Department of Commerce (the Department) received an antidumping duty (AD) petition concerning imports of cast iron soil pipe fittings (soil pipe fittings) from the People's Republic of China (the PRC), filed in proper form, on behalf of the Cast Iron Soil Pipe Institute (the petitioner).¹ The petitioner is a trade association, whose members are all domestic producers of soil pipe fittings.² The AD petition was accompanied by a countervailing duty (CVD) petition for soil pipe fittings from the PRC.³

¹ See Letter from the petitioner, “Petition for the Imposition of Antidumping and Countervailing Duties: Cast Iron Soil Pipe Fittings from the People's Republic of China,” dated July 13, 2017 (the Petition).

² See Volume I of the Petition at 2. The individual members of the Cast Iron Soil Pipe Institute are AB&I Foundry, Charlotte Pipe & Foundry, and Tyler Pipe.

³ See Volume III of the Petition.

On July 17, 2017, the petitioner filed an amendment to Volume I of the Petition.⁴ On July 18, 2017, the Department requested additional information and clarification of certain areas of the Petition.⁵ The petitioner filed responses to these requests on July 20, 2017.⁶ In response to the Department's further requests for information and clarification of Volume II of the Petition,⁷ the petitioner submitted additional amendments to the Petition on July 26, 2017, and July 28, 2017.⁸

⁴ See Letter from the petitioner, “Amendment to Petitions for the Imposition of Antidumping and Countervailing Duties: Cast Iron Soil Pipe Fittings from the People's Republic of China,” dated July 17, 2017 (Petition Amendment).

⁵ See Letters from the Department, “Petition for the Imposition of Antidumping Duties on Imports of Cast Iron Soil Pipe Fittings from the People's Republic of China: Supplemental Questions,” dated July 18, 2017, and “Petitions for the Imposition of Antidumping and Countervailing Duties on Imports of Cast Iron Soil Pipe Fittings from the People's Republic of China: Supplemental Questions,” dated July 18, 2017.

⁶ See Letters from the petitioner “Cast Iron Soil Pipe Fittings from the People's Republic of China: Response to Supplemental Questions—General Issues,” dated July 20, 2017 (General Issues Supplement), and “Cast Iron Soil Pipe Fittings from the People's Republic of China: Response to Supplemental Questions—Antidumping Duties,” dated July 20, 2017 (AD Supplemental Response 1).

⁷ See Memorandum to the File, “Telephone Call Regarding Financial Ratios,” dated July 24, 2017; Memorandum to the File, “Telephone Call with Petitioner's Counsel Regarding Amendments to the Petition,” dated July 26, 2017; and Memorandum to the File, “Telephone Call with Petitioner's Counsel Regarding Questions for the Normal Value Calculation,” dated July 27, 2017.

⁸ See Letter from the petitioner, “Cast Iron Soil Pipe Fittings from the People's Republic of China: Response to Supplemental Questions—Antidumping Duties,” dated July 26, 2017 (AD Supplemental Response 2); and Letter from the petitioner, “Cast Iron Soil Pipe Fittings from the People's Republic of China: Revised Antidumping Calculation,” dated July 28, 2017 (AD Supplemental Response 3).

In accordance with section 732(b) of the Tariff Act of 1930, as amended (the Act), the petitioner alleges that imports of soil pipe fittings from the PRC are being, or are likely to be, sold in the United States at less than fair value within the meaning of section 731 of the Act, and that, such imports are materially injuring, or threatening material injury to, an industry in the United States. Also, consistent with section 732(b)(1) of the Act, the Petition is accompanied by information reasonably available to the petitioner supporting its allegations.

The Department finds that the petitioner filed the Petition on behalf of the domestic industry because the petitioner is an interested party as defined in section 771(9)(E) of the Act. The Department also finds that the petitioner demonstrated sufficient industry support with respect to the initiation of the AD investigation that the petitioner is requesting.⁹

⁹ See the “Determination of Industry Support for the Petition” section, below.

Period of Investigation

Because the Petition was filed on July 13, 2017, pursuant to 19 CFR 351.204(b)(1), the period of investigation (POI) is January 1, 2017, through June 30, 2017.

Scope of the Investigation

The product covered by this investigation is soil pipe fittings from the PRC. For a full description of the scope of this investigation, see the “Scope of the Investigation,” in the Appendix to this notice.

Comments on Scope of the Investigation

During our review of the Petition, the Department discussed with the petitioner the language pertaining to the proposed scope to ensure that the scope language in the Petition would be an accurate reflection of the products for which the domestic industry is seeking relief.¹⁰ On July 20, 2017, the petitioner filed a revision to the scope language.¹¹

¹⁰ See Memorandum to the File, “Antidumping Duty Investigation of Cast Iron Pipe Fittings from the People's Republic of China: Telephone Call with Petitioner, Re: Scope of the Investigation,” dated July 18, 2017.

¹¹ See Letter from the petitioner, “Response to Supplemental Questions—Scope,” dated July 20, 2017 (Scope Supplement).

As discussed in the preamble to the Department's regulations,¹² we are setting aside a period for interested parties to raise issues regarding product coverage (i.e., scope). The Department will consider all comments received from interested parties and, if necessary, will consult with the interested parties prior to the issuance of the preliminary determination. If scope comments include factual information,¹³ all such factual information should be limited to public information. In order to facilitate preparation of its questionnaire, the Department requests all interested parties to submit such comments by 5:00 p.m. Eastern Time (ET) on Tuesday, August 22, 2017, which is 20 calendar days from the signature date of this notice. Any rebuttal comments, which may include factual information, must be filed by 5:00 p.m. ET on Friday, September 1, 2017, which is 10 calendar days from the deadline for initial comments.¹⁴ All such comments must be filed on the record of each of the concurrent AD and CVD investigations.

¹² See Antidumping Duties; Countervailing Duties, 62 FR 27296, 27323 (May 19, 1997).

¹³ See 19 CFR 351.102(b)(21).

¹⁴ See 19 CFR 351.303(b).

The Department requests that any factual information the parties consider relevant to the scope of the investigation be submitted during this time period. However, if a party subsequently finds that additional factual information pertaining to the scope of the investigation may be relevant, the party may contact the Department and request permission to submit the additional information. As stated above, all such comments must be filed on the record of each of the concurrent AD and CVD investigations.

Filing Requirements

All submissions to the Department must be filed electronically using Enforcement & Compliance's Antidumping Duty and Countervailing Duty Centralized Electronic Service System (ACCESS).¹⁵ An electronically-filed document must be received successfully in its entirety by the time and date when it is due. Documents excepted from the electronic submission requirements must be filed manually (i.e., in paper form) with Enforcement & Compliance's APO/Dockets Unit, Room 18022, U.S. Department of Commerce, 1401 Constitution Avenue NW., Washington, DC 20230, and stamped with the date and time of receipt by the applicable deadlines.

¹⁵ See 19 CFR 351.303 (for general filing requirements); see also Antidumping and Countervailing Duty Proceedings: Electronic Filing Procedures; Administrative Protective Order Procedures, 76 FR 39263 (July 6, 2011), for details of the Department's electronic filing requirements, which went into effect on August 5, 2011. Information on help using ACCESS can be found at http://access.trade.gov/help.aspx, and a handbook can be found at https://access.trade.gov/help/Handbook%20on%20Electronic%20Filling%20Procedures.pdf.

Comments on Product Characteristics for AD Questionnaires

The Department requests comments from interested parties regarding the appropriate physical characteristics of soil pipe fittings to be reported in response to the Department's AD questionnaire. This information will be used to identify the key physical characteristics of the merchandise under consideration in order to report the relevant factors and costs of production accurately as well as to develop appropriate product-comparison criteria.

Interested parties will have the opportunity to provide any information or comments that they feel are relevant to the development of an accurate list of physical characteristics. Specifically, they may provide comments as to which characteristics are appropriate to use as: (1) General product characteristics; and (2) product-comparison criteria. We note that it is not always appropriate to use all product characteristics as product-comparison criteria. We base product-comparison criteria on meaningful commercial differences among products. In other words, although there may be some physical product characteristics used by manufacturers to describe soil pipe fittings, it may be that only a select few product characteristics take into account commercially-meaningful physical characteristics. In addition, interested parties may comment on the order in which the physical characteristics should be used in matching products. Generally, the Department attempts to list the most important physical characteristics first and the least important characteristics last.

In order to consider the suggestions of interested parties in developing and issuing the AD questionnaire, all comments must be filed by 5:00 p.m. ET on August 17, 2017. Any rebuttal comments, which may include factual information, must be filed by 5:00 p.m. ET on August 24, 2017. All comments and submissions to the Department must be filed electronically using ACCESS, as explained above, on the record of the less-than-fair-value investigation.

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹⁶ they do so for different purposes and pursuant to a separate and distinct authority. In addition, the Department's determination is subject to limitations of time and information. Although this may result in different definitions of the like product, such differences do not render the decision of either agency contrary to law.¹⁷

¹⁶ See Section 771(10) of the Act.

¹⁷ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petition).

With regard to the domestic like product, the petitioner does not offer a definition of the domestic like product distinct from the scope of the investigation. Based on our analysis of the information submitted on the record, we have determined that soil pipe fittings, as defined in the scope, constitute a single domestic like product, and we have analyzed industry support in terms of that domestic like product.¹⁸

¹⁸ For a discussion of the domestic like product analysis in this case, see Antidumping Duty Investigation Initiation Checklist: Cast Iron Soil Pipe Fittings from the People's Republic of China (Initiation Checklist), at Attachment II, Analysis of Industry Support for the Antidumping and Countervailing Duty Petitions Covering Cast Iron Soil Pipe Fittings (Soil Pipe Fittings) from the People's Republic of China (Attachment II). This checklist is dated concurrently with this notice and on file electronically via ACCESS. Access to documents filed via ACCESS is also available in the Central Records Unit, Room B8024 of the main Department of Commerce building.

In determining whether the petitioner has standing under section 732(c)(4)(A) of the Act, we considered the industry support data contained in the Petition and the petitioner's subsequent submissions with reference to the domestic like product as defined in the “Scope of the Investigation,” in Appendix I of this notice. The petitioner provided the 2016 production of the domestic like product by its members.¹⁹ The petitioner states that its members are the only known producers of soil pipe fittings in the United States; therefore, the Petition is supported by 100 percent of the U.S. industry.²⁰

¹⁹ See Petition Amendment at 2; see also General Issues Supplement at 1.

²⁰ See Petition at 2; see also General Issues Supplement at 1 and Exhibit 2.

Our review of the data provided in the Petition, Petition Amendment, General Issues Supplement, and other information readily available to the Department indicates that the petitioner has established industry support for the Petition.²¹ First, the Petition established support from domestic producers (or workers) accounting for more than 50 percent of the total production of the domestic like product and, as such, the Department is not required to take further action in order to evaluate industry support (e.g., polling).²² Second, the domestic producers (or workers) have met the statutory criteria for industry support under section 732(c)(4)(A)(i) of the Act because the domestic producers (or workers) who support the Petition account for at least 25 percent of the total production of the domestic like product.²³ Finally, the domestic producers (or workers) have met the statutory criteria for industry support under section 732(c)(4)(A)(ii) of the Act because the domestic producers (or workers) who support the Petition account for more than 50 percent of the production of the domestic like product produced by that portion of the industry expressing support for, or opposition to, the Petition.²⁴ Accordingly, the Department determines that the Petition was filed on behalf of the domestic industry within the meaning of section 732(b)(1) of the Act.

²¹ See Initiation Checklist at Attachment II.

²² See section 732(c)(4)(D) of the Act; see also Initiation Checklist at Attachment II.

²³ See Initiation Checklist at Attachment II.

²⁴ Id.

The Department finds that the petitioner filed the Petition on behalf of the domestic industry because it is an interested party as defined in section 771(9)(E) of the Act, and it has demonstrated sufficient industry support with respect to the AD investigation that it is requesting that the Department initiate.²⁵

²⁵ Id.

Allegations and Evidence of Material Injury and Causation

The petitioner alleges that the U.S. industry producing the domestic like product is being materially injured, or is threatened with material injury, by reason of the imports of the subject merchandise sold at less than normal value (NV). In addition, the petitioner alleges that subject imports exceed the negligibility threshold provided for under section 771(24)(A) of the Act.²⁶

²⁶ See Volume I of the Petition at 11-12; see also General Issues Supplement at 3 and Exhibit 3.

The petitioner contends that the industry's injured condition is illustrated by reduced market share; underselling and price depression or suppression; lost sales and revenues; and negative impact on profit.²⁷ We have assessed the allegations and supporting evidence regarding material injury, threat of material injury, and causation, and we have determined that these allegations are properly supported by adequate evidence, and meet the statutory requirements for initiation.²⁸

²⁷ See Volume I of the Petition at 9, 11-20, and Exhibits I-5 and I-7; see also Petition Amendment at 1-3; see also General Issues Supplement at 3 and Exhibit 3.

²⁸ See Initiation Checklist at Attachment III, Analysis of Allegations and Evidence of Material Injury and Causation for the Antidumping and Countervailing Duty Petitions Covering Cast Iron Soil Pipe Fittings from the People's Republic of China.

Allegations of Sales at Less Than Fair Value

The following is a description of the allegations of sales at less than fair value upon which the Department based its decision to initiate the AD investigation of imports of soil pipe fittings from the PRC. The sources of data for the deductions and adjustments relating to U.S. price and NV are discussed in greater detail in the Initiation Checklist.²⁹

²⁹ Id., at 6-10.

Export Price

The petitioner based the U.S. price on export price (EP) using average unit values (AUVs) of publicly available import data.³⁰ The petitioner made deductions to U.S. price for foreign inland freight and brokerage and handling.³¹

³⁰ See the attachment to AD Supplemental Response 3.

³¹ Id.

Normal Value

The petitioner stated that the Department has consistently treated the PRC as a non-market economy (NME) country.³² In accordance with section 771(18)(C)(i) of the Act, the presumption of NME status remains in effect until revoked by the Department. The presumption of NME status for the PRC has not been revoked by the Department and, therefore, remains in effect for purposes of the initiation of this investigation. Accordingly, the NV of the product is appropriately based on factors of production (FOPs) valued in a surrogate market economy country, in accordance with section 773(c) of the Act.

³² See Volume II of the Petition at 1.

The petitioner argues that South Africa is an appropriate surrogate country for the PRC because it is a market economy that is at a level of economic development comparable to that of the PRC, it is a significant producer of comparable merchandise, and public information from South Africa is available to value all FOPs.³³ Based on the information provided by the petitioner, we determine that it is appropriate to use South Africa as a surrogate country for the PRC. Interested parties will have the opportunity to submit comments regarding surrogate country selection and, pursuant to 19 CFR 351.301(c)(3)(i), will be provided an opportunity to submit publicly available information to value FOPs no later than 30 days before the scheduled date of the preliminary determination.

³³ See AD Supplemental Response 2 at 2-3 and Exhibits 2-5.

Factors of Production

Because information regarding the volume of inputs consumed by Chinese producers/exporters is not reasonably available, the petitioner based the FOPs for materials, labor, and energy on the production experience of one of its member companies.³⁴ The petitioner asserts that the production process for soil pipe fittings is similar regardless of whether the product is produced in the United States or in the PRC.³⁵ The petitioner valued the estimated FOPs using surrogate values from South Africa.

³⁴ See Volume II of the Petition at 4 and Exhibit II-7. See also AD Supplemental Response 2 at 1, 3, and Exhibit 1.

³⁵ See AD Supplemental Response 1 at Exhibit 3.

Valuation of Raw Materials

The petitioner valued direct materials based on publicly-available import data for South Africa obtained from the Global Trade Atlas (GTA) for the period November 2016 through April 2017.³⁶ The petitioner excluded all import data from countries previously determined by the Department to maintain broadly available, non-industry-specific export subsidies and countries previously determined by the Department to be NME countries.³⁷ In addition, in accordance with the Department's practice, the petitioner excluded imports that were labeled as originating from an unidentified country.³⁸

³⁶ See AD Supplemental Response 2 at 3 and Exhibit 7. In the narrative, the petitioner erroneously reported September 2016 through February 2017.

³⁷ Id.

³⁸ Id.

Valuation of Labor

The petitioner relied on 2012 data published by the International Labor Organization, inflated to 2017 using the South African Consumer Price Index.³⁹

³⁹ Id., at Exhibit 10.

Valuation of Energy

The petitioner valued natural gas using GTA import data.⁴⁰ The petitioner valued electricity using values reported in the Eskom 2016/2017 Tariff Book.⁴¹

⁴⁰ Id., at Exhibit 7.

⁴¹ Id., at Exhibit 9.

Valuation of Factory Overhead, Selling, General and Administrative Expenses, and Profit

The petitioner calculated ratios for selling, general, and administrative expenses, and profit based on the 2016 consolidated financial statements of Tata Africa Steel Processors Proprietary Ltd., a South African steel processor and producer of aluminum wire rods.⁴²

⁴² Id., at Exhibit 11.

Fair Value Comparisons

Based on the data provided by the petitioner, there is reason to believe that imports of soil pipe fittings from the PRC are being, or are likely to be, sold in the United States at less than fair value. Based on comparisons of EP to NV, in accordance with section 773(c) of the Act, the estimated dumping margin for soil pipe fittings from the PRC is 92.48 percent.⁴³

⁴³ See the attachment to AD Supplemental Response 3.

Initiation of Less-Than-Fair-Value Investigation

Based upon the examination of the AD Petition on soil pipe fittings from the PRC, we find that the Petition meets the requirements of section 732 of the Act. Therefore, we are initiating an AD investigation to determine whether imports of soil pipe fittings from the PRC are being, or are likely to be, sold in the United States at less than fair value. In accordance with section 733(b)(1)(A) of the Act and 19 CFR 351.205(b)(1), unless postponed, we will make our preliminary determination no later than 140 days after the date of this initiation.

Under the Trade Preferences Extension Act of 2015, numerous amendments to the AD and CVD laws were made.⁴⁴ The 2015 law does not specify dates of application for those amendments. On August 6, 2015, the Department published an interpretative rule, in which it announced the applicability dates for each amendment to the Act, except for amendments contained in section 771(7) of the Act, which relate to determinations of material injury by the ITC.⁴⁵ The amendments to sections 771(15), 773, 776, and 782 of the Act are applicable to all determinations made on or after August 6, 2015, and, therefore, apply to this AD investigation.⁴⁶

⁴⁴ See Trade Preferences Extension Act of 2015, Public Law 114-27, 129 Stat. 362 (2015).

⁴⁵ See Dates of Application of Amendments to the Antidumping and Countervailing Duty Laws Made by the Trade Preferences Extension Act of 2015, 80 FR 46793 (August 6, 2015).

⁴⁶ Id., at 46794-95. The 2015 amendments may be found at https://www.congress.gov/bill/114th-congress/house-bill/1295/text/pl.

Respondent Selection

The petitioner named 22 companies in the PRC as producers/exporters of soil pipe fittings.⁴⁷ In accordance with our standard practice for respondent selection in cases involving NME countries, we intend to issue quantity and value (Q&V) questionnaires to producers/exporters of merchandise subject to this investigation and, in the event we determine to limit the number of companies individually examined, base respondent selection on the responses received.⁴⁸ For this investigation, the Department will request Q&V information from known exporters and producers identified, with complete contact information, in the Petition. In addition, the Department will post the Q&V questionnaire along with filing instructions on the Enforcement & Compliance Web site at http://www.trade.gov/enforcement/news.asp.

⁴⁷ See Volume I of the Petition at Exhibit I-4.

⁴⁸ See, e.g., Carton-Closing Staples From the People's Republic of China: Initiation of Less-Than-Fair-Value Investigation, 82 FR 19351 (April 27, 2017).

Exporters/producers of soil pipe fittings from the PRC that do not receive Q&V questionnaires by mail may still submit a response to the Q&V questionnaire and can obtain a copy from the Enforcement & Compliance Web site. The Q&V response must be submitted by all PRC exporters/producers no later than August 14, 2017. All Q&V responses must be filed electronically via ACCESS.

Separate Rates

In order to obtain separate-rate status in an NME investigation, exporters and producers must submit a separate-rate application.⁴⁹ The specific requirements for submitting a separate-rate application are outlined in detail in the application itself, which is available on the Department's Web site at http://enforcement.trade.gov/nme/nme-sep-rate.html. The separate-rate application will be due 30 days after publication of this initiation notice.⁵⁰ Exporters and producers who submit a separate-rate application and are selected as mandatory respondents will be eligible for consideration for separate-rate status only if they respond to all parts of the Department's AD questionnaire as mandatory respondents. The Department requires that respondents submit a response to both the Q&V questionnaire and the separate-rate application by their respective deadlines in order to receive consideration for separate-rate status.

⁴⁹ See Policy Bulletin 05.1: Separate-Rates Practice and Application of Combination Rates in Antidumping Investigation involving Non-Market Economy Countries (April 5, 2005), available at http://enforcement.trade.gov/policy/bull05-1.pdf (Policy Bulletin 05.1).

⁵⁰ Although in past investigations this deadline was 60 days, consistent with 19 CFR 351.301(a), which states that “the Secretary may request any person to submit factual information at any time during a proceeding,” this deadline is now 30 days.

Use of Combination Rates

The Department will calculate combination rates for certain respondents that are eligible for a separate rate in an NME investigation. The Separate Rates and Combination Rates Bulletin states:

{w}hile continuing the practice of assigning separate rates only to exporters, all separate rates that the Department will now assign in its NME Investigation will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.⁵¹

⁵¹ See Policy Bulletin 05.1 at 6 (emphasis added).

Distribution of Copies of the Petition

In accordance with section 732(b)(3)(A) of the Act and 19 CFR 351.202(f), a copy of the public version of the Petition has been provided to the Government of the PRC via ACCESS. To the extent practicable, we will attempt to provide a copy of the public version of the Petition to each exporter named in the Petition, as provided under 19 CFR 351.203(c)(2).

ITC Notification

We will notify the ITC of our initiation, as required by section 732(d) of the Act.

Preliminary Determination by the ITC

The ITC will preliminarily determine, within 45 days after the date on which the Petition was filed, whether there is a reasonable indication that imports of soil pipe fittings from the PRC are materially injuring or threatening material injury to a U.S. industry.⁵² A negative ITC determination will result in the investigation being terminated; ⁵³ otherwise, this investigation will proceed according to statutory and regulatory time limits.

⁵² See section 733(a) of the Act.

⁵³ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i) through (iv). The regulation requires any party, when submitting factual information, to specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Parties are advised to review the regulations prior to submitting factual information in this investigation.

Extension of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in this investigation.

Certification Requirements

Any party submitting factual information in an AD or CVD proceeding must certify to the accuracy and completeness of that information.⁵⁴ Parties must use the certification formats provided in 19 CFR 351.303(g).55 56 The Department intends to reject factual submissions if the submitting party does not comply with the applicable revised certification requirements.

⁵⁴ See section 782(b) of the Act.

⁵⁵ See also Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

⁵⁶ See Certification of Factual Information To Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under Administrative Protective Order (APO) in accordance with 19 CFR 351.305. On January 22, 2008, the Department published Antidumping and Countervailing Duty Proceedings: Documents Submission Procedures; APO Procedures, 73 FR 3634 (January 22, 2008). Parties wishing to participate in this investigation should ensure that they meet the requirements of these procedures (e.g., the filing of letters of appearance as discussed at 19 CFR 351.103(d)).

This notice is issued and published pursuant to sections 732(c)(2) and 777(i) of the Act.

Dated: August 2, 2017.
Carole Showers,
Executive Director, Office of Policy, performing the duties of Deputy Assistant Secretary for Enforcement and Compliance.

Appendix

Scope of the Investigation

The merchandise covered by this investigation is cast iron soil pipe fittings, finished and unfinished, regardless of industry or proprietary specifications, and regardless of size. Cast iron soil pipe fittings are nonmalleable iron castings of various designs and sizes, including, but not limited to, bends, tees, wyes, traps, drains, and other common or special fittings, with or without side inlets.

Cast iron soil pipe fittings are classified into two major types—hubless and hub and spigot. Hubless cast iron soil pipe fittings are manufactured without a hub, generally in compliance with Cast Iron Soil Pipe Institute (CISPI) specification 301 and/or American Society for Testing and Materials (ASTM) specification A888. Hub and spigot pipe fittings have hubs into which the spigot (plain end) of the pipe or fitting is inserted. Cast iron soil pipe fittings are generally distinguished from other types of nonmalleable cast iron fittings by the manner in which they are connected to cast iron soil pipe and other fittings.

The subject imports are normally classified in subheading 7307.11.0045 of the Harmonized Tariff Schedule of the United States (HTSUS): Cast fittings of nonmalleable cast iron for cast iron soil pipe. The HTSUS subheading and specifications are provided for convenience and customs purposes only; the written description of the scope of this investigation is dispositive.

[FR Doc. 2017-16770 Filed 8-7-17; 8:45 am]

BILLING CODE 3510-DS-P